DEPARTMENT OF JUSTICE

Immigration and Naturalization Service

Agency Information Collection Activities: Comment Request

ACTION: Request OMB Emergency Approval; Application for NEXUS Dedicated Commuter Lane Program; Form I-823N.

The Department of Justice, Immigration and Naturalization Service (INS) has submitted an emergency information collection request (ICR) utilizing emergency review procedures, to the Office of Management and Budget (OMB) for review and clearance in accordance with section 1320.13(a)(1)(ii) and (a)(2)(iii) of the Paperwork Reduction Act of 1995. The INS has determined that it cannot reasonably comply with the normal clearance procedures under this part because normal clearance procedures are reasonably likely to prevent or disrupt the collection of information. INS is requesting emergency review from OMB of this information collection to ensure compliance with the United States/Canada “Shared Border Accord,” signed in 1999 and the Ridge/Manley Agreement, the thirty-point northern border agreement signed in December 2001.

The application will be used by the Immigration and Naturalization Serve and the United States Customs officials to determine eligibility for admission into the NEXUS program. NEXUS is an automated dedicated commuter lane (DCL) program for low-risk travelers who frequently cross the land border between the United States and Canada. This high profile program arose from the U.S./Canada Shared Border Accord and was incorporated into the Ridge/Manley Agreement. The Administration has directed that the NEXUS lanes at two ports-of-entry between the state of Washington and British Columbia, Canada must open in June 2002, which requires that the enrollment process begin by Late May 2002 in order to permit sufficient time for background checks and pre-screening interviews.

For the aforementioned reasons, the INS is requesting emergency OMB review and approval of this information collection request by May 15, 2002. If granted, the emergency approval is only valid for 180 days. ALL comments and/or questions pertaining to this pending request for emergency approval MUST be directed to OMB, Office of Information and Regulatory Affairs, Attention: Department of Justice Desk Officer, 725—17th Street, N.W., Suite 10102, Washington, DC 20503. Comments regarding the emergency submission of this information collection may also be submitted via facsimile to 202-395-6974.

During the first 60 days of this same period, a regular review of this information collection is also being undertaken. During the regular review period, the INS requests written comments and suggestions from the public and affected agencies concerning this information collection. Comments are encouraged and will be accepted until July 15, 2002. During the 60-day regular review, ALL comments and suggestions, or questions regarding additional information, to include obtaining a copy of the information collection instrument with instructions, should be directed to Mr. Richard A. Sloan, 202-514-3291, Director, Regulations and Forms Services Division, Immigration and Naturalization Service, U.S. Department of Justice, Room 4034, 425 I Street, NW., Washington, DC 20536. Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: New Collection.

(2) Title of the Form/Collection: Application for NEXUS Dedicated Commuter Lane Program.

(3) Agency form number, if any, and the applicable component of the Department of Justice sponsoring the collection: Form I-823N. Inspections Division, Immigration and Naturalization Service.

(4) Affected public who will be asked or required to respond, as well as a brief abstract: Primary: Individuals or households. The information collected will be used by the INS and U.S. Customs officials to determine eligibility for admission into the NEXUS program under U.S. law. Canadian immigration and customs officials will use the information on the application to determine the individual's eligibility under Canadian law.

(5) An estimate of the total number of respondents and the amount of time estimated for an average respondent to respond: 100,000 responses at 1.166 minutes per response.

(6) An estimate of the total public burden (in hours) associated with the collection: 116,600 annual burden hours.

If additional information is required contact: Mr. Robert B. Briggs, Clearance Officer, United States Department of Justice, Information Management and Security Staff, Justice Management Division, Patrick Henry Building, 601 D Street, N.W., Washington, DC 20530.

Dated: May 10, 2002.
Richard A. Sloan,
Department Clearance Officer, United States Department of Justice, Immigration and Naturalization Service.

[FR Doc. 02-12247 Filed 5-15-02; 8:45 am]

BILLING CODE 4410-10-M